DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: August 13, 2007, 1 p.m.-5 p.m., EST.

Place: (Audio Conference Call).

The ACICBL will meet on Monday, August 13, 2007 from 1 p.m. to 5 p.m. (EST). The public can join the meeting via audio conference by dialing 1-888-697-8510 and providing the following information:

Leader's Name: Mr. Lou Coccodrilli.

Passcode: 43495.

Status: The meeting will be open to the public; teleconference access limited only by availability of telephone ports.

Purpose: The Committee will continue to focus on issues related to Health Information Technology/Electronic Medical Records (HIT/EMR) and its potential impact on Title VII Interdisciplinary, Community-Based Training Grant Programs identified under sections 751-756, Part D of the Public Health Service Act. The Committee may invite speakers to highlight various topics related to HIT/EMR including, but not limited to benefits and barriers; consumer privacy and confidentiality; implications on underserved and unserved populations, rural, geriatric and other populations; implementation and use of EMRs across various settings, i.e., hospitals, inpatient settings and ambulatory care sites (Health Centers, Rural Health Clinics); academic settings, i.e., interdisciplinary and community-based education and training of health professionals; health literacy and patient education; as well as the future of HIT/EMR as an interoperable system to enhance health care delivery. The meeting will allow committee members the opportunity to identify and discuss current efforts involving HIT/EMR and formulate appropriate recommendations for the Secretary and the Congress regarding the use of advanced technology to enhance interdisciplinary and community-based training of health professions students and practicing health professionals.

Agenda: The agenda includes an overview of the Committee's general business activities, presentations by experts on HIT/EMR related topics, and discussion sessions for the development of recommendations to be addressed in the Seventh Annual ACICBL Report.

Agenda items are subject to change as dictated by the priorities of the Committee.

FOR FURTHER INFORMATION CONTACT: Anyone requesting information regarding the Committee should contact Louis D. Coccodrilli, Designated Federal Official for the ACICBL, Bureau of Health Professions, Health Resources and Services Administration, Parklawn Building, Rm 9-05, 5600 Fishers Lane, Rockville, Maryland 20857; (301) 443-6950 or lcoccodrilli@hrsa.gov. Vanessa Saldanha, Public Health Fellow can also be contacted for inquiries at (301) 443-6529 or vsaldanha@hrsa.gov.

Dated: July 24, 2007.
Alexandra Huttinger,
Acting Director, Division of Policy Review and Coordination.

[FR Doc. E7-14528 Filed 7-26-07; 8:45 am]

BILLING CODE 4165-15-P